CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled the AmeriCorps National civilian Community Corps (NCCC) Project Sponsor Survey for review and approval in accordance with the Paperwork Reduction Act of 1995, Public Law 104-13, (44 U.S.C. Chapter 35). Copies of this ICR, with applicable supporting documentation, may be obtained by calling the Corporation for National and Community Service, Barbara Lane, at 202-606-6867 or email to blane@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on February 19, 2014. This comment period ended April 19, 2014. No public comments were received from this Notice.

Description: CNCS is seeking approval of the AmeriCorps NCCC Project Sponsor Survey, which is used by AmeriCorps NCCC to capture the short and long-term outcomes of the NCCC program on the organizations and the communities that the members serve.

Type of Review: Renewal.

Agency: Corporation for National and Community Service.

Title: AmeriCorps NCCC Sponsor Survey.

OMB Number: 3045-0138.

Agency Number: None.

Affected Public: The NCCC sponsor survey will be administered to the project sponsor for any NCCC service project. These sponsors apply to receive a 10-person NCCC team for a period of six-eight weeks to implement local service projects. There are approximately 156 projects in each of four project rounds per year. The project sponsors are uniquely able to provide the information sought in the NCCC Sponsor Survey.

Total Respondents: 625.

Average Time per Response: 10 minutes.

Estimated Total Burden Hours: 104 hours.

Total Burden Cost (capital/startup): None.

Total Burden Cost (operating/maintenance): None.

Dated: April 29, 2014.
Gina Cross,
Acting Director, AmeriCorps National Civilian Community Corps.

[FR Doc. 2014-10350 Filed 5-5-14; 8:45 am]

BILLING CODE 6050-28-P